DEPARTMENT OF TRANSPORTATION

Federal Highway Administration

[FHWA Docket No. 2003-14683]

Request for Clearance of a New Information Collection: Information on Tribal Government Transportation Programs

AGENCY: Federal Highway Administration (FHWA), DOT.

ACTION: Notice and request for comments.

SUMMARY: In accordance with the requirements in section 3506(c)(2)(A) of the Paperwork Reduction Act of 1995, this notice announces the intention of FHWA to request the Office of Management and Budget's (OMB) approval for a new information collection identified below under Supplementary Information. The collection involves information on Tribal governments' transportation programs. The information to be collected will be used for evaluating tribal transportation programs and identifying best practices.

DATES: Please submit comments on or before May 20, 2003.

ADDRESSES: You may mail or hand deliver comments to the U.S. Department of Transportation, Dockets Management Facility, Room PL-401, 400 Seventh Street, SW., Washington, DC 20590; telefax comments to (202) 493-2251; or submit electronically at http://dmses.dot.gov/submit. All comments should include the docket number in this notice's heading. All comments may be examined and copied at the above address from 9 a.m. to 5 p.m., Monday through Friday, except Federal holidays. If you desire a receipt you must include a self-addressed stamped envelope or postcard or, if you submit your comments electronically, you may print the acknowledgment page.

FOR FURTHER INFORMATION CONTACT: Mr. Tim Penney, (202) 366-2698, Office of Planning, Federal Highway Administration, Department of Transportation, 400 Seventh Street, SW., Washington, DC 20590. Office hours are from 7:30 a.m. to 5 p.m., Monday through Friday, except Federal holidays.

SUPPLEMENTARY INFORMATION: Title: Information on Tribal Government Transportation Programs.

Background: FHWA proposes to fund a project through the National Cooperative Highway Research Program Synthesis project. The project goal is to gather information on tribal governments' transportation programs. The information will include funding information, staffing, and administration of transportation projects and programs. Information will also be requested of tribal governments on cooperative projects with state and local governments.

The information will be used to prepare a summary of how tribal transportation programs are funded and staffed and how tribal governments administer programs with the Bureau of Indian Affairs, FHWA, and state and local governments. Information will be evaluated and best practices will be identified. The information will be shared with tribal governments and states for their use in developing and enhancing effective transportation programs for tribal governments.

Respondents: 100 tribal government transportation staff.

Frequency: The information will be collected one time for purposes of the synthesis study.

Estimated Average Burden per Response: The estimated average reporting burden per response is 2 hours.

Estimated Total Annual Burden Hours: The estimated average burden is 2 hours per respondent. The FHWA goal is to get information from 100 tribal governments as minimum. The estimated total annual burden is 200 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http:www.access.gpo.gov/nara.

Authority: The Paperwork Reduction Act of 1995; 44 U.S.C. Chapter 35, as amended; and 49 CFR 1.48.

Issued on: March 17, 2003.
James R. Kabel,
Chief, Management Programs and Analysis Division.

[FR Doc. 03-6748 Filed 3-20-03; 8:45 am]

BILLING CODE 4910-22-P